DEPARTMENT OF ENERGY

Federal Energy Regulatory Commission

[Docket No. CP22-17-000]

Rio Grande LNG, LLC; Notice Suspending Environmental Review Schedule of the Proposed Carbon Capture and Sequestration System Amendment

The staff of the Federal Energy Regulatory Commission (FERC or Commission) is suspending the environmental review schedule of the Carbon Capture and Sequestration System Amendment (Amendment) involving construction and operation of facilities by Rio Grande LNG, LLC (RG LNG) in Cameron County, Texas. The notice of schedule, issued on December 2, 2022, identified a May 5, 2023 Environmental Assessment (EA) issuance date. This schedule was based upon RG LNG providing complete and timely responses to any data requests regarding the carbon capture systems. Environmental and/or engineering data requests were issued on April 27, May 2, and November 10, 2022, and January 27 and January 31, 2023. RG LNG responded partially to these data requests on May 20, May 27, December 9, and December 21, 2022, and February 21 and February 28, 2023. However, a number of responses remain outstanding and/or are deficient, including the following, which are integral to the development of the EA:

Examples of necessary information for EA | Date to be provided according to RG LNG
Spill Containment Information | No Date Provided.
Impoundment Radiant Heat Modeling | During Detailed Design.
Fire Protection Evaluation | No Date Provided.
Hazard Detection Information | No Date Provided.
Hazard Control Information | No Date Provided.
Passive Mitigation Systems Information | No Date Provided.
Emergency Shutdown Button Information | No Date Provided.
Firewater Information | No Date Provided.
Fire Protection Information | During Detailed Design.
Security Information | During Detailed Design.
Air Dispersion Modeling | April 28, 2023.

As stated in our data requests, complete responses to these information requests within the time frame requested was necessary to maintain the published schedule for issuance of the EA. RG LNG has indicated in its responses to staff data requests that certain information would not be provided in time for staff to evaluate the responses and complete the analysis required for the EA. Because there are still a number of outstanding responses to staff's environmental and engineering data requests, FERC staff is no longer able to complete the EA as scheduled.

Therefore, the Commission will suspend the environmental review schedule for the Amendment. Once RG LNG provides the outstanding information, the Commission will issue a revised schedule for the EA. Note that this requirement includes information referred to by RG LNG in the above table as to be filed “during detailed design,” which this notice is clarifying must be filed for review and staff's analysis in the EA. This is not a suspension of the Commission staff's review of the Amendment. Staff will continue to process RG LNG's proposal to the extent possible based upon the information filed to date while awaiting the remaining data responses.

Additional Information

Additional information about the Amendment is available from the Commission's Office of External Affairs, at (866) 208-FERC, or on the FERC website at www.ferc.gov using the eLibrary link. Click on the eLibrary link, click on “General Search” and enter the docket number in the “Docket Number” field, excluding the last three digits (i.e., CP22-17). Be sure you have selected an appropriate date range. For assistance, please contact FERC Online Support at FercOnlineSupport@ferc.gov or (866) 208-3676, or for TTY, contact (202) 502-8659. The eLibrary link also provides access to the texts of all formal documents issued by the Commission, such as orders, notices, and rulemakings.

Dated: April 14, 2023.
Kimberly D. Bose,
Secretary.

[FR Doc. 2023-08353 Filed 4-19-23; 8:45 am]

BILLING CODE 6717-01-P